DEPARTMENT OF DEFENSE

Army Corps of Engineers

Notice of Intent To Prepare a Draft Supplemental Environmental Impact Statement/Subsequent Environmental Impact Report XIV [XIV] for the 2016 American River Watershed Common Features Project, Sacramento, CA

AGENCY: U.S. Army Corps of Engineers

ACTION: Notice of intent; correction.

SUMMARY: The U.S. Army Corps of Engineers (USACE) published a document in the Federal Register of October 7, 2022, concerning the intent to prepare a draft Supplemental Environmental Impact Statement (SEIS)/Subsequent Environmental Impact Report (SEIR) to the 2016 American River Watershed Common Features (ARCF) General Reevaluation Report (GRR), Final Environmental Impact Statement/Environmental Impact Report (FEIS/FEIR). The document contained an incorrect date.

FOR FURTHER INFORMATION CONTACT: Mr. Guy Romine, telephone at (916) 557-5100, email at ARCF_SEIS@usace.army.mil.

SUPPLEMENTARY INFORMATION:

Correction

In the Federal Register of October 7, 2022, in FR Doc. 2022-21870, on page 61003, in the second column, correct the DATES caption to read:

DATES: Written comments regarding the scope of the environmental analysis should be received by December 1, 2022.

David B. Olson,
Federal Register Liaison Officer, Army Corps of Engineers.

[FR Doc. 2022-22526 Filed 10-14-22; 8:45 am]

BILLING CODE 3720-58-P